DEPARTMENT OF TRANSPORTATION

National Highway Traffic Safety Administration

49 CFR Part 593

[Docket No. NHTSA-2017-0061]

List of Nonconforming Vehicles Decided To Be Eligible for Importation

AGENCY: National Highway Traffic Safety Administration (NHTSA), Department of Transportation (DOT).

ACTION: Final rule.

SUMMARY: This document revises the list of vehicles not originally manufactured to conform to the Federal Motor Vehicle Safety Standards (FMVSS) that NHTSA has decided to be eligible for importation. This list is published in an appendix to the agency's regulations that prescribe procedures for import eligibility decisions. The list has been revised to add all vehicles that NHTSA has decided to be eligible for importation since October 1, 2016, and to remove all previously listed vehicles that are now more than 25 years old and need no longer comply with all applicable FMVSS to be lawfully imported. NHTSA is required by statute to publish this list annually in the Federal Register.

DATES: Effective October 24, 2017.

FOR FURTHER INFORMATION CONTACT: George Stevens, Office of Vehicle Safety Compliance, NHTSA, (202) 366-5308.

SUPPLEMENTARY INFORMATION: Under 49 U.S.C. 30141(a)(1)(A), a motor vehicle that was not originally manufactured to conform to all applicable FMVSS shall be refused admission into the United States unless NHTSA has decided that the motor vehicle is substantially similar to a motor vehicle originally manufactured for sale in the United States, certified under 49 U.S.C. 30115, of the same model year as the model of the motor vehicle to be compared, and is capable of being readily altered to conform to all applicable FMVSS. Where there is no substantially similar U.S.-certified motor vehicle, 49 U.S.C. 30141(a)(1)(B) permits a nonconforming motor vehicle to be admitted into the United States if its safety features comply with, or are capable of being altered to comply with, all applicable FMVSS based on destructive test data or such other evidence as the Secretary of Transportation decides to be adequate.

Under 49 U.S.C. 30141(a)(1), import eligibility decisions may be made “on the initiative of the Secretary of Transportation or on petition of a manufacturer or importer registered under [49 U.S.C. 30141(c)].” The Secretary's authority to make these decisions has been delegated to NHTSA. The agency publishes notices of eligibility decisions as they are made.

Under 49 U.S.C. 30141(b)(2), a list of all vehicles for which import eligibility decisions have been made must be published annually in the Federal Register. On October 1, 1996, NHTSA added the list as an appendix to 49 CFR part 593, the regulations that establish procedures for import eligibility decisions (61 FR 51242). As described in the notice, NHTSA took that action to ensure that the list is more widely disseminated to government personnel who oversee vehicle imports and to interested members of the public. See 61 FR 51242-43. In the notice, NHTSA expressed its intention to annually revise the list as published in the appendix to include any additional vehicles decided by the agency to be eligible for importation since the list was last published. See 61 FR 51243. The agency stated that issuance of the document announcing these revisions will fulfill the annual publication requirements of 49 U.S.C. 30141(b)(2). Ibid.

Regulatory Analyses and Notices

A. Executive Order 12866, Regulatory Planning and Review

Executive Order 12866, “Regulatory Planning and Review” (58 FR 51735, October 4, 1993), provides for making determinations about whether a regulatory action is “significant” and therefore subject to Office of Management and Budget (OMB) review and to the requirements of the Executive Order. The Executive Order defines a “significant regulatory action” as one that is likely to result in a rule that may:

(1) Have an annual effect on the economy of $100 million or more or adversely affects in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order. This rule will not have any of these effects and was not reviewed under Executive Order 12866. It is not significant within the meaning of the DOT Regulatory Policies and Procedures. The effect of this rule is not to impose new requirements. Instead it provides a summary compilation of decisions on import eligibility that have already been made and does not involve new decisions. This rule will not impose any additional burden on any person. Accordingly, the agency believes that the preparation of a regulatory evaluation is not warranted for this rule.

B. Environmental Impacts

We have not conducted an evaluation of the impacts of this rule under the National Environmental Policy Act. This rule does not impose any change that would result in any impacts to the quality of the human environment. Accordingly, no environmental assessment is required.

C. Regulatory Flexibility Act

Pursuant to the Regulatory Flexibility Act, we have considered the impacts of this rule on small entities (5 U.S.C. 601 et seq.). I certify that this rule will not have a significant economic impact upon a substantial number of small entities within the context of the Regulatory Flexibility Act. The following is our statement providing the factual basis for the certification (5 U.S.C. 605(b)). This rule will not have any significant economic impact on a substantial number of small businesses because the rule merely furnishes information by revising the list in the Code of Federal Regulations of vehicles for which import eligibility decisions have previously been made. Accordingly, we have not prepared a Final Regulatory Flexibility Analysis.

D. Executive Order 13132, Federalism

Executive Order 13132 requires NHTSA to develop an accountable process to ensure “meaningful and timely input by State and local officials in the development of regulatory policies that have federalism implications.” Executive Order 13132 defines the term “Policies that have federalism implications” to include regulations that have “substantial direct effects on the States, on the relationship between the national government and the States, or on the distribution of power and responsibilities among the various levels of government.” Under Executive Order 13132, NHTSA may not issue a regulation that has federalism implications, that imposes substantial direct compliance costs, and that is not required by statute, unless the Federal government provides the funds necessary to pay the direct compliance costs incurred by State and local governments, or NHTSA consults with State and local officials early in the process of developing the regulation.

This rule will have no direct effect on the States, on the relationship between the national government and the States, or on the distribution of power and responsibilities among the various levels of government as specified in Executive Order 13132. Thus, the requirements of section 6 of the Executive Order do not apply to this rule.

E. The Unfunded Mandates Reform Act

The Unfunded Mandates Reform Act of 1995 (Pub. L. 104-4) requires agencies to prepare a written assessment of the costs, benefits and other effects of proposed or final rules that include a Federal mandate likely to result in the expenditure by State, local or tribal governments, in the aggregate, or by the private sector, of more than $100 million annually. This rule will not result in additional expenditures by State, local or tribal governments or by any members of the private sector. Therefore, the agency has not prepared an economic assessment pursuant to the Unfunded Mandates Reform Act.

F. Paperwork Reduction Act

Under the Paperwork Reduction Act of 1995 (44 U.S.C. 3501 et seq.), a person is not required to respond to a collection of information by a Federal agency unless the collection displays a valid OMB control number. This rule does not impose any new collection of information requirements for which a 5 CFR part 1320 clearance must be obtained. DOT previously submitted to OMB and OMB approved the collection of information associated with the vehicle importation program in OMB Clearance No. 2127-0002. An extension of this information collection is awaiting approval.

G. Civil Justice Reform

Pursuant to Executive Order 12988, “Civil Justice Reform,” we have considered whether this rule has any retroactive effect. We conclude that it will not have such an effect.

H. Plain Language

Executive Order 12866 requires each agency to write all rules in plain language. Application of the principles of plain language includes consideration of the following questions:

—Have we organized the material to suit the public's needs?

—Are the requirements in the rule clearly stated?

—Does the rule contain technical language or jargon that is not clear?

—Would a different format (grouping and order of sections, use of headings, paragraphing) make the rule easier to understand?

—Would more (but shorter) sections be better?

—Could we improve clarity by adding tables, lists, or diagrams?

—What else could we do to make the rule easier to understand?

If you wish to do so, please comment on the extent to which this final rule effectively uses plain language principles.

I. National Technology Transfer and Advancement Act

Under the National Technology and Transfer and Advancement Act of 1995 (Pub. L. 104-113), “all Federal agencies and departments shall use technical standards that are developed or adopted by voluntary consensus standards bodies, using such technical standards as a means to carry out policy objectives or activities determined by the agencies and departments.” This rule does not require the use of any technical standards.

J. Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78).

K. Executive Order 13045, Economically Significant Rules Disproportionately Affecting Children

This rule is not subject to Executive Order 13045 because it is not “economically significant” as defined under Executive Order 12866, and does not concern an environmental, health, or safety risk that NHTSA has reason to believe may have a disproportionate effect on children.

L. Notice and Comment

NHTSA finds that prior notice and opportunity for comment are unnecessary under 5 U.S.C. 553(b)(3)(B) because this action does not impose any regulatory requirements. This rule merely revises the list of vehicles not originally manufactured to conform to the FMVSS that NHTSA has decided to be eligible for importation into the United States since the last list was published in October, 2016.

In addition, so that the list of vehicles for which import eligibility decisions have been made may be included in the next edition of 49 CFR parts 572 to 999, which is due for revision on October 1, 2017, good cause exists to dispense with the requirement in 5 U.S.C. 553(d) for the effective date of the rule to be delayed for at least 30 days following its publication.

List of Subjects in 49 CFR Part 593

Imports, Motor vehicle safety, Motor vehicles.

In consideration of the foregoing, part 593 of Title 49 of the Code of Federal Regulations is amended as follows:

PART 593—[AMENDED]

1. The authority citation for part 593 continues to read as follows:

Authority: 49 U.S.C. 322 and 30141(b); delegation of authority at 49 CFR 1.95.

2. Appendix A to part 593 is revised to read as follows:

Appendix A to Part 593—List of Vehicles Determined To Be Eligible for Importation

(a) Each vehicle on the following list is followed by a vehicle eligibility number. The importer of a vehicle admissible under any eligibility decision must enter that number on the HS-7 Declaration Form accompanying entry to indicate that the vehicle is eligible for importation.

(1) “VSA” eligibility numbers are assigned to all vehicles that are decided to be eligible for importation on the initiative of the Administrator under § 593.8.

(2) “VSP” eligibility numbers are assigned to vehicles that are decided to be eligible under § 593.7(f), based on a petition from a manufacturer or registered importer submitted under § 593.5(a)(1), which establishes that a substantially similar U.S.-certified vehicle exists.

(3) “VCP” eligibility numbers are assigned to vehicles that are decided to be eligible under § 593.7(f), based on a petition from a manufacturer or registered importer submitted under § 593.5(a)(2), which establishes that the vehicle has safety features that comply with, or are capable of being altered to comply with, all applicable FMVSS.

(b) Vehicles for which eligibility decisions have been made are listed alphabetically, first by make, then by model, then by model year.

(c) All hyphens used in the Model Year column mean “through” (for example, “1995-1999” means “1995 through 1999”).

(d) The initials “MC” used in the Make column mean “Motorcycle.”

(e) The initials “SWB” used in the Model Type column mean “Short Wheel Base.”

(f) The initials “LWB” used in the Model Type column mean “Long Wheel Base.”

(g) For vehicles with a European country of origin, the term “Model Year” ordinarily means calendar year in which the vehicle was produced.

(h) All vehicles are left-hand-drive (LHD) vehicles unless noted as RHD. The initials “RHD” used in the Model Type column mean “right-hand-drive.”

(i) For vehicle models that have been determined to be eligible for importation based on a petition submitted under § 593.5(a)(1), which establishes that a substantially similar U.S.-certified vehicle exists, and no specific body style(s) are listed, only the body style(s) of that vehicle model that were U.S.-certified by the original manufacturer are eligible for importation. For example, if the original manufacturer manufactured both sedan and wagon body styles for the described model, but only certified the sedan for the U.S. market, the wagon body style would not be eligible for importation under that determination.

Vehicles Certified by Their Original Manufacturer as Complying With All Applicable Canadian Motor Vehicle Safety Standards
(a) All passenger cars less than 25 years old manufactured before September 1, 1996, that, as originally manufactured, are equipped with an automatic restraint system that complies with Federal Motor Vehicle Safety Standard (FMVSS) No. 208 | VSA-80
(b) All passenger cars manufactured on or after September 1, 1996, and before September 1, 2002, that, as originally manufactured, are equipped with an automatic restraint system that complies with FMVSS No. 208, and that comply with FMVSS No. 214;
(c) All passenger cars manufactured on or after September 1, 2002, and before September 1, 2007, that, as originally manufactured, are equipped with an automatic restraint system that complies with FMVSS No. 208, and that comply with FMVSS Nos. 201, 214, 225, and 401;
(d) All passenger cars manufactured on or after September 1, 2007, and before September 1, 2008, that, as originally manufactured, comply with FMVSS Nos. 110, 118, 138, 201, 208, 213, 214, 225, and 401;
(e) All passenger cars manufactured on or after September 1, 2008 and before September 1, 2009 that, as originally manufactured, comply with FMVSS Nos. 110, 118, 138, 201, 202a, 206, 208, 213, 214, 225, and 401;
(f) All passenger cars manufactured on or after September 1, 2009 and before September 1, 2010 that, as originally manufactured, comply with FMVSS Nos. 118, 138, 201, 202a, 206, 208, 213, 214, 225, and 401;
(g) All passenger cars manufactured on or after September 1, 2010 and before September 1, 2011 that, as originally manufactured, comply with FMVSS Nos. 118, 138, 201, 202a, 206, 208, 213, 214, and 225;
(h) All passenger cars manufactured on or after September 1, 2011 and before September 1, 2017 that, as originally manufactured, comply with FMVSS Nos. 138, 201, 206, 208, 213, 214, and 225.
(i) All passenger cars manufactured on or after September 1, 2017, and before May 1, 2018, that as originally manufactured, comply with FMVSS Nos. 138, 201, 206, 208, 213, 214, 225, and insofar as it is applicable, 226.
(j) All passenger cars manufactured on or after May 1, 2018, and before September 1, 2022, that as originally manufactured, comply with FMVSS Nos. 111, 138, 201, 206, 208, 213, 214, 225, and insofar as it is applicable, with FMVSS No. 226.
(a) All multipurpose passenger vehicles, trucks, and buses with a GVWR of 4,536 kg (10,000 lb) or less that were manufactured on and after September 1, 1991, and before September 1, 1993 and that, as originally manufactured, comply with FMVSS Nos. 202 and 208 | VSA-81
(b) All multipurpose passenger vehicles, trucks, and buses with a GVWR of 4,536 kg (10,000 lb) or less that were manufactured on or after September 1, 1993, and before September 1, 1998, and that, as originally manufactured, comply with FMVSS Nos. 202, 208, and 216;
(c) All multipurpose passenger vehicles, trucks, and buses with a GVWR of 4,536 kg (10,000 lb) or less that were manufactured on or after September 1, 1998, and before September 1, 2002, and that, as originally manufactured, comply with FMVSS Nos. 202, 208, 214, and 216;
(d) All multipurpose passenger vehicles, trucks, and buses with a GVWR of 4,536 kg (10,000 lb) or less that were manufactured on or after September 1, 2002, and before September 1, 2007, and that, as originally manufactured, comply with FMVSS Nos. 201, 202, 208, 214, and 216, and, insofar as it is applicable, with FMVSS No. 225;
(e) All multipurpose passenger vehicles, trucks, and buses with a GVWR of 4,536 kg (10,000 lb) or less manufactured on or after September 1, 2007 and before September 1, 2008, that, as originally manufactured, comply with FMVSS Nos. 110, 118, 201, 202, 208, 213, 214, and 216, and insofar as they are applicable, with FMVSS Nos. 138 and 225;
(f) All multipurpose passenger vehicles, trucks, and buses with a GVWR of 4,536 kg (10,000 lb) or less manufactured on or after September 1, 2008 and before September 1, 2009, that, as originally manufactured, comply with FMVSS Nos. 110, 118, 201, 202a, 206, 208, 213, 214, and 216, and insofar as they are applicable, with FMVSS Nos. 138 and 225;
(g) All multipurpose passenger vehicles, trucks, and buses with a GVWR of 4,536 kg (10,000 lb) or less manufactured on or after September 1, 2009 and before September 1, 2011, that, as originally manufactured, comply with FMVSS Nos. 118, 201, 202a, 206, 208, 213, 214, and 216, and insofar as they are applicable, with FMVSS Nos. 138 and 225;
(h) All multipurpose passenger vehicles, trucks, and buses with a GVWR of 4,536 kg (10,000 lb) or less manufactured on or after September 1, 2011 and before September 1, 2012, that, as originally manufactured, comply with FMVSS Nos. 201, 202a, 206, 208, 213, 214, and 216, and insofar as they are applicable, with FMVSS Nos. 138 and 225;
(i) All multipurpose passenger vehicles, trucks, and buses with a GVWR of 4,536 kg (10,000 lb) or less manufactured on or after September 1, 2012 and before September 1, 2017, that, as originally manufactured, comply with FMVSS Nos. 201, 206, 208, 213, 214, and 216, and insofar as they are applicable, with FMVSS Nos. 138 222, and 225;
(j) All multipurpose passenger vehicles, trucks, and buses with a GVWR of 4,536 kg (10,000 lb) or less manufactured on or after September 1, 2017, and before May 1, 2018, that as originally manufactured, comply with FMVSS Nos. 138, 201, 206, 208, 213, and 214, and insofar as they are applicable, with FMVSS Nos. 222, 225, and, 226;
(k) All multipurpose passenger vehicles, trucks, and buses with a GVWR of 4,536 kg (10,000 lb) or less manufactured on or after May 1, 2018, and before September 1, 2022, that as originally manufactured, comply with FMVSS Nos. 111, 138, 201, 206, 208, 213, and 214, and insofar as they are applicable, with FMVSS Nos. 222, 225, and 226.
(a) All multipurpose passenger vehicles, trucks, and buses with a GVWR greater than 4,536 kg (10,000 lb) manufactured before August 1, 2019 | VSA-82
(b) All multipurpose passenger vehicles, trucks, and buses with a GVWR greater than 4,536 kg (10,000 lb) manufactured on or after August 1, 2019, and before September 1, 2022, that as originally manufactured, comply with FMVSS 136 insofar as it is applicable.
All trailers and motorcycles less than 25 years old | VSA-83

Vehicles Manufactured for Other Than the Canadian Market
Make | Model type(s) | Body/chassis | Model years(s) | VSP | VCP
AHLM | SPT 16-25 trailer |  | 2012 |  | 55
Alfa Romeo | 164 |  | 1994 | 156 |
Alfa Romeo | 8C Spider |  | 2010 |  | 61
Alfa Romeo | 8C SPIDER |  | 2008-2009 | 580 |
Alpina | B10 Series |  | 1993-1996 |  | 54
Alpina | B11 | Sedan | 1993-1994 |  | 48
Alpina | B12 | Coupe | 1993-1996 |  | 43
Alpina | B12 5.0 | Sedan | 1993-1994 |  | 41
Alpina | B5 series (manufactured before 9/1/06). |  | 2005-2007 |  | 53
Al-Spaw | EMA Mobile Stage Trailer |  | 2009 |  | 42
Aston Martin | Vanquish |  | 2002-2004 | 430 |
Aston Martin | Vantage |  | 2006-2007 | 530 |
Aston Martin | Vantage V8 |  | 2008 | 582 |
Audi | 100 |  | 1993 | 244 |
Audi | A4 |  | 1996-2000 | 352 |
Audi | A4, RS4, S4 | 8D | 2000-2001 | 400 |
Audi | A6 |  | 1998-1999 | 332 |
Audi | A8 |  | 2000 | 424 |
Audi | A8 |  | 1997-2000 | 337 |
Audi | A8 Avant Quattro |  | 1996 | 238 |
Audi | RS6 & RS Avant |  | 2003 | 443 |
Audi | S6 |  | 1996 | 428 |
Audi | S8 |  | 2000 | 424 |
Audi | TT |  | 2000-2001 | 364 |
Bentley | Arnage (manufactured 1/1/01-12/31/01) |  | 2001 | 473 |
Bentley | Azure (LHD & RHD) |  | 1998 | 485 |
Bentley | Flying Spur | 4-door Saloon 2-door Continental | 2014 | 588 |
Bimota (MC) | DB4 |  | 2000 | 397 |
Bimota (MC) | SB6 |  | 1994-1999 | 523 |
Bimota (MC) | SB8 |  | 1999-2000 | 397 |
BMW | 3 Series |  | 1998 | 462 |
BMW | 3 Series |  | 1999 | 379 |
BMW | 3 Series |  | 2000 | 356 |
BMW | 3 Series |  | 2001 | 379 |
BMW | 3 Series |  | 1993-1994 | 550 |
BMW | 3 Series |  | 1995-1997 | 248 |
BMW | 3 Series |  | 2003-2004 | 487 |
BMW | 325i |  | 1993-1996 | 197 |
BMW | 5 Series |  | 2000 | 345 |
BMW | 5 Series |  | 1993-1995 | 194 |
BMW | 5 Series |  | 1995-1997 | 249 |
BMW | 5 Series |  | 1998-1999 | 314 |
BMW | 5 Series |  | 2000-2002 | 414 |
BMW | 5 Series |  | 2003-2004 | 450 |
BMW | 5 Series (manufactured prior to 9/1/2006) |  | 2005-2007 | 555 |
BMW | 7 Series |  | 1993-1994 | 299 |
BMW | 7 Series |  | 1995-1999 | 313 |
BMW | 7 Series |  | 1999-2001 | 366 |
BMW | 760i |  | 2004 | 559 |
BMW | 8 Series |  | 1993-1995 | 361 |
BMW | 850 Series |  | 1997 | 396 |
BMW | M3 |  | 2006-2010 | 571 |
BMW | M3 (manufactured prior to 9/1/06) |  | 2006 | 520 |
BMW | X5 (manufactured 1/1/03-12/31/04) |  | 2003-2004 | 459 |
BMW | Z3 |  | 2002 | 568 |
BMW | Z3 |  | 1996-1998 | 260 |
BMW | Z3 (European market) |  | 1999 | 483 |
BMW | Z4 |  | 2010 | 553 |
BMW | Z8 |  | 2002 | 406 |
BMW | Z8 |  | 2000-2001 | 350 |
BMW (MC) | C1 |  | 2000-2003 |  | 40
BMW (MC) | K1 |  | 1993 | 228 |
BMW (MC) | K1100, K1200 |  | 1993-1998 | 303 |
BMW (MC) | K1200 GT |  | 2003 | 556 |
BMW (MC) | K75 |  | 1996 |  | 36
BMW (MC) | K75S |  | 1993-1995 | 229 |
BMW (MC) | R1100 |  | 1994-1997 | 231 |
BMW (MC) | R1100 |  | 1998-2001 | 368 |
BMW (MC) | R1100 S |  | 2002 | 557 |
BMW (MC) | R1100RS |  | 1994 | 177 |
BMW (MC) | R1150GS |  | 2000 | 453 |
BMW (MC) | R1200 GS Adventure series |  | 2013 | 592 |
BMW (MC) | R1200C |  | 1998-2001 | 359 |
BMW (MC) | R80, R100 |  | 1993-1995 | 295 |
BMW (MC) | S1000RR |  | 2011-2012 | 563 |
Buell (MC) | 1125R, Ulysses XB, Lightning XB, and Blast |  | 2009 | 579 |
Buell (MC) | All Models |  | 1995-2002 | 399 |
Cadillac | DeVille |  | 1994-1999 | 300 |
Cadillac | DeVille (manufactured 8/1/99-12/31/00) |  | 2000 | 448 |
Cadillac | Escalade |  | 2008 | 572 |
Cagiva (MC) | Gran Canyon 900 |  | 1999 | 444 |
Carrocerias | Cimarron trailer |  | 2006-2007 |  | 37
Chevrolet | 400SS |  | 1995 | 150 |
Chevrolet | Astro Van |  | 1997 | 298 |
Chevrolet | Blazer (plant code of “K” or “2” in the 11th position of the VIN) |  | 1997 | 349 |
Chevrolet | Blazer (plant code of “K” or “2” in the 11th position of the VIN) |  | 2001 | 461 |
Chevrolet | Camaro |  | 1999 | 435 |
Chevrolet | Camaro |  | 2010 | 591 |
Chevrolet | Cavalier |  | 1997 | 369 |
Chevrolet | Corvette | Coupe | 1999 | 419 |
Chevrolet | Corvette |  | 2007 | 544 |
Chevrolet | Silverado |  | 2008 | 590 |
Chevrolet | Suburban |  | 2005 | 541 |
Chevrolet | Tahoe |  | 2000 | 504 |
Chevrolet | Tahoe |  | 2001 | 501 |
Chevrolet | Trailblazer (manufactured prior to 9/1/07 for sale in the Kuwaiti market) |  | 2007 | 514 |
Chevy | Impala |  | 1996 | 561 |
Chrysler | Grand Voyager |  | 1998 | 373 |
Chrysler | LHS (Mexican market) |  | 1996 | 276 |
Chrysler | Town and Country |  | 1993 | 273 |
Dodge | Durango |  | 2007 | 534 |
Dodge | Ram |  | 1994-1995 | 135 |
Dodge | Ram 1500 Laramie Crew Cab |  | 2009 | 535 |
Ducati (MC) | 600SS |  | 1993-1996 | 241 |
Ducati (MC) | 748 |  | 1999-2003 | 421 |
Ducati (MC) | 748 Biposto |  | 1996-1997 | 220 |
Ducati (MC) | 888 |  | 1993 | 500 |
Ducati (MC) | 900 |  | 2001 | 452 |
Ducati (MC) | 900SS |  | 1993-1996 | 201 |
Ducati (MC) | 916 |  | 1999-2003 | 421 |
Ducati (MC) | 996 Biposto |  | 1999-2001 | 475 |
Ducati (MC) | 996R |  | 2001-2002 | 398 |
Ducati (MC) | MH900E |  | 2001-2002 | 524 |
Ducati (MC) | Monster 600 |  | 2001 | 407 |
Ducati (MC) | Multistrada |  | 2011 | 585 |
Ducati (MC) | ST4S |  | 1999-2005 | 474 |
E. Lancashine Coachbuilders Limited | Double Decker Bus | Volvo B7L chassis | 2000 |  | 59
Eagle | Vision |  | 1994 | 323 |
EMU | Camper trailer, 4x4 Extreme Adventure |  | 2014 |  | 63
Ferrari | 360 |  | 2001 | 376 |
Ferrari | 360 | Spider & Coupe | 2003 | 410 |
Ferrari | 360 (manufactured after 9/31/02) |  | 2002 | 433 |
Ferrari | 360 (manufactured before 9/1/02) |  | 2002 | 402 |
Ferrari | 360 Modena |  | 1999-2000 | 327 |
Ferrari | 360 Series |  | 2004 | 446 |
Ferrari | 456 |  | 1995 | 256 |
Ferrari | 456 GT & GTA |  | 1999 | 445 |
Ferrari | 456 GT & GTA |  | 1997-1998 | 408 |
Ferrari | 512 TR |  | 1993 | 173 |
Ferrari | 550 |  | 2001 | 377 |
Ferrari | 550 Marinello |  | 1997-1999 | 292 |
Ferrari | 575 |  | 2002-2003 | 415 |
Ferrari | 575 |  | 2004-2005 | 507 |
Ferrari | 599 |  | 2008-2011 | 587 |
Ferrari | 599 (manufactured prior to 9/1/06) |  | 2006 | 518 |
Ferrari | 599 GTB (Manufactured September 1, 2006 through August 31, 2007) |  | 2006-2007 | 576 |
Ferrari | 612 Scagletti (Manufactured before 9/1/06) |  | 2006 | 573 |
Ferrari | 612 Scaglietti |  | 2005 | 545 |
Ferrari | California (Manufactured for the European Market) |  | 2010 | 570 |
Ferrari | Enzo |  | 2003-2004 | 436 |
Ferrari | F355 |  | 1995 | 259 |
Ferrari | F355 |  | 1999 | 391 |
Ferrari | F355 |  | 1996-1998 | 355 |
Ferrari | F430 (manufactured prior to 9/1/06) |  | 2005-2006 | 479 |
Ferrari | F50 |  | 1995 | 226 |
Ferrari | F50 (Manufactured before 9/1/07) |  | 1996-1997 |  | 62
Fisker | Karma |  | 2012 | 577 |
Ford | Bronco (Venezuelan market) |  | 1995-1996 | 265 |
Ford | Escape (manufactured prior to 9/1/2006) |  | 2007 | 551 |
Ford | Escort (Nicaraguan market) |  | 1996 | 322 |
Ford | Escort RS Cosworth |  | 1994-1995 |  | 9
Ford | Explorer (Venezuelan market) |  | 1993-1998 | 268 |
Ford | F150 |  | 2000 | 425 |
Ford | F-150 |  | 2009 | 575 |
Ford | F-150 Crew Cab (manufactured for sale in the Mexican market) |  | 2004 | 548 |
Ford | Mustang |  | 1993 | 367 |
Ford | Mustang |  | 1997 | 471 |
Ford | Windstar |  | 1995-1998 | 250 |
Freightliner | FLD12064ST |  | 1993-1996 | 179 |
Freightliner | FTLD112064SD |  | 1993-1996 | 178 |
Gemala | Saranaupaya 1600 Double Axle trailer |  | 2001 |  | 58
GMC | Suburban |  | 1993-1994 | 134 |
Harley-Davidson (MC) | FL Series |  | 2010 | 528 |
Harley-Davidson (MC) | FX, FL, XL & VR Series |  | 2004 | 422 |
Harley-Davidson (MC) | FX, FL, XL & VR Series |  | 2008 | 517 |
Harley-Davidson (MC) | FX, FL, XL & VR Series |  | 2009 | 522 |
Harley-Davidson (MC) | FX, FL, XL & VR Series |  | 2011-2014 | 567 |
Harley-Davidson (MC) | FX, FL, XL Series |  | 1998 | 253 |
Harley-Davidson (MC) | FX, FL, XL Series |  | 1999 | 281 |
Harley-Davidson (MC) | FX, FL, XL Series |  | 2000 | 321 |
Harley-Davidson (MC) | FX, FL, XL Series |  | 2001 | 362 |
Harley-Davidson (MC) | FX, FL, XL Series |  | 2002 | 372 |
Harley-Davidson (MC) | FX, FL, XL Series |  | 2003 | 393 |
Harley-Davidson (MC) | FX, FL, XL Series |  | 2005 | 472 |
Harley-Davidson (MC) | FX, FL, XL Series |  | 2006 | 491 |
Harley-Davidson (MC) | FX, FL, XL Series |  | 1993-1997 | 202 |
Harley-Davidson (MC) | FX, FL, XL, & VR Series |  | 2007 | 506 |
Harley-Davidson (MC) | FX, XL & VR Series |  | 2010 | 578 |
Harley-Davidson (MC) | FXSTC Soft Tail Custom |  | 2007 | 499 |
Harley-Davidson (MC) | VRSCA |  | 2002 | 374 |
Harley-Davidson (MC) | VRSCA |  | 2003 | 394 |
Harley-Davidson (MC) | VRSCA |  | 2004 | 422 |
Hatty | 45 ft double axle trailer |  | 1999-2000 |  | 38
Heku | 750 KG boat trailer |  | 2005 |  | 33
Hobby | Exclusive 650 KMFE Trailer |  | 2002-2003 |  | 29
Honda | Accord |  | 1993-1999 | 319 |
Honda | Accord (RHD) | Sedan & Wagon | 1994-1997 | 451 |
Honda | CRV |  | 2002 | 447 |
Honda | CR-V |  | 2005 | 489 |
Honda | Prelude |  | 1994-1997 | 309 |
Honda (MC) | CB 750 (CB750F2T) |  | 1996 | 440 |
Honda (MC) | CBR 250 |  | 1993-1994 |  | 22
Honda (MC) | NT700V (Deauville) |  | 2006-2013 |  | 57
Honda (MC) | RVF 400 |  | 1994-2000 | 358 |
Honda (MC) | VF750 |  | 1994-1998 | 290 |
Honda (MC) | VFR 400 |  | 1994-2000 | 358 |
Honda (MC) | VFR 400, RVF 400 |  | 1993 |  | 24
Honda (MC) | VFR750 |  | 1993-1997 | 315 |
Honda (MC) | VFR800 |  | 1998-1999 | 315 |
Honda (MC) | VT600 |  | 1993-1998 | 294 |
Hyundai | Elantra |  | 1993-1995 | 269 |
Hyundai | XG350 |  | 2004 | 494 |
Ifor Williams | LM85G trailer |  | 2005 |  | 49
Jaguar | Sovereign |  | 1993 | 78 |
Jaguar | S-Type |  | 2000-2002 | 411 |
Jaguar | XJ8 |  | 2002 | 536 |
Jaguar | XJS |  | 1994-1996 | 195 |
Jaguar | XK-8 |  | 1998 | 330 |
Jaguar | XKR |  | 2005 | 560 |
Jeep | Cherokee |  | 1993 | 254 |
Jeep | Cherokee (LHD & RHD) |  | 1994 | 493 |
Jeep | Cherokee (LHD & RHD) |  | 1995 | 180 |
Jeep | Cherokee (LHD & RHD) |  | 1996 | 493 |
Jeep | Cherokee (LHD) |  | 1997-1998 | 516 |
Jeep | Cherokee (RHD) |  | 1997-2001 | 515 |
Jeep | Compass |  | 2009 | 589 |
Jeep | Grand Cherokee |  | 1994 | 404 |
Jeep | Grand Cherokee |  | 1997 | 431 |
Jeep | Grand Cherokee |  | 2001 | 382 |
Jeep | Grand Cherokee (LHD—Japanese market) |  | 1997 | 389 |
Jeep | Liberty |  | 2002 | 466 |
Jeep | Liberty |  | 2005 | 505 |
Jeep | Liberty (Mexican market) |  | 2004 | 457 |
Jeep | Wrangler |  | 1993 | 217 |
Jeep | Wrangler |  | 1995 | 255 |
Jeep | Wrangler |  | 1998 | 341 |
Jeep | Wrangler (manufactured for sale in the Mexican market) |  | 2003 | 547 |
Jeep | Wrangler (manufactured for sale in the Mexican market) |  | 2012 | 584 |
Jeep | Wrangler (RHD) |  | 2000-2003 |  | 50
Kawasaki (MC) | EL250 |  | 1993-1994 | 233 |
Kawasaki (MC) | Ninja ZX-6R |  | 2002 |  | 44
Kawasaki (MC) | VN1500-P1/P2 series |  | 2003 | 492 |
Kawasaki (MC) | ZR750 |  | 2000-2003 | 537 |
Kawasaki (MC) | ZX400 |  | 1993-1997 | 222 |
Kawasaki (MC) | ZX6, ZX7, ZX9, ZX10, ZX11 |  | 1993-1999 | 312 |
Kawasaki (MC) | ZX600 |  | 1993-1998 | 288 |
Kawasaki (MC) | ZZR1100 |  | 1993-1998 | 247 |
Ken-Mex | T800 |  | 1993-1996 | 187 |
Komet | Standard, Classic & Eurolite trailer |  | 2000-2005 | 477 |
KTM (MC) | Duke II |  | 1995-2000 | 363 |
Lamborghini | Diablo | Coupe | 1997 |  | 26
Lamborghini | Diablo (except 1997 Coupe) |  | 1996-1997 | 416 |
Lamborghini | Diablo SE30 |  | 1994-1995 | 586 |
Lamborghini | Gallardo (manufactured 1/1/04-12/31/04) |  | 2004 | 458 |
Lamborghini | Gallardo (manufactured 1/1/06-8/31/06) |  | 2006 | 508 |
Lamborghini | Murcielago | Roadster | 2005 | 476 |
Land Rover | Defender 110 |  | 1993 | 212 |
Land Rover | Defender 90 | VIN & Body Limited | 1994-1995 | 512 |
Land Rover | Defender 90 (manufactured before 9/1/97) and VIN “SALDV224*VA” or “SALDV324*VA” |  | 1997 | 432 |
Land Rover | Discovery |  | 1994-1998 | 338 |
Land Rover | Discovery (II) |  | 2000 | 437 |
Land Rover | Range Rover |  | 2004 | 509 |
Land Rover | Range Rover |  | 2006 | 538 |
Lexus | GS300 |  | 1998 | 460 |
Lexus | GS300 |  | 1993-1996 | 293 |
Lexus | RX300 |  | 1998-1999 | 307 |
Lexus | SC300 |  | 1993-1996 | 225 |
Lexus | SC400 |  | 1993-1996 | 225 |
M&V | Type NS4G31 trailer |  | 2008-2010 |  | 46
Magni (MC) | Australia, Sfida |  | 1996-1999 | 264 |
Mazda | MPV |  | 2000 | 413 |
Mazda | MX-5 Miata |  | 1993 | 184 |
Mazda | RX-7 |  | 1993-1995 | 279 |
Mazda | Xedos 9 |  | 1995-2000 | 351 |
McLaren | MP4-12C |  | 2012 | 569 |
Mercedes-Benz | 190 E |  | 1993 | 454 |
Mercedes-Benz | 200 E | 124.019 | 1993 | 75 |
Mercedes-Benz | 220 E |  | 1993 | 168 |
Mercedes-Benz | 220 TE | Station Wagon | 1993-1996 | 167 |
Mercedes-Benz | 230 E | 124.023 | 1993 | 127 |
Mercedes-Benz | 250 E |  | 1993 | 245 |
Mercedes-Benz | 280 E |  | 1993 | 166 |
Mercedes-Benz | 300 CE | 124.061 | 1993 | 94 |
Mercedes-Benz | 300 E 4-Matic |  | 1993 | 192 |
Mercedes-Benz | 320 CE |  | 1993 | 310 |
Mercedes-Benz | 320 SL |  | 1993 | 142 |
Mercedes-Benz | 350 CLS |  | 2004 |  | 45
Mercedes-Benz | 400 SE |  | 1993-1994 | 296 |
Mercedes-Benz | 420 E |  | 1993 | 169 |
Mercedes-Benz | 600 SEC | Coupe | 1993 | 185 |
Mercedes-Benz | 600 SEL | 140.057 | 1993-1998 | 271 |
Mercedes-Benz | C 320 | 203 | 2001-2002 | 441 |
Mercedes-Benz | C Class |  | 1994-1999 | 331 |
Mercedes-Benz | C Class | 203 | 2000-2001 | 456 |
Mercedes-Benz | C Class (manufactured prior to 9/1/2006) | W203 | 2003-2006 | 521 |
Mercedes-Benz | CL 500 |  | 1998 | 277 |
Mercedes-Benz | CL 500 |  | 1999-2001 | 370 |
Mercedes-Benz | CL 600 |  | 1999-2001 | 370 |
Mercedes-Benz | CLK 320 |  | 1998 | 357 |
Mercedes-Benz | CLK Class |  | 1999-2001 | 380 |
Mercedes-Benz | CLK Class | 209 | 2002-2005 | 478 |
Mercedes-Benz | CLS Class (manufactured prior to 9/1/06) |  | 2006 | 532 |
Mercedes-Benz | E 200 |  | 1994 | 207 |
Mercedes-Benz | E 200 |  | 1995-1998 | 278 |
Mercedes-Benz | E 220 |  | 1994-1996 | 168 |
Mercedes-Benz | E 250 |  | 1994-1995 | 245 |
Mercedes-Benz | E 280 |  | 1994-1996 | 166 |
Mercedes-Benz | E 320 |  | 1994-1998 | 240 |
Mercedes-Benz | E 320 | Station Wagon | 1994-1999 | 318 |
Mercedes-Benz | E 320 | 211 | 2002-2003 | 418 |
Mercedes-Benz | E 420 |  | 1994-1996 | 169 |
Mercedes-Benz | E 500 |  | 1994 | 163 |
Mercedes-Benz | E 500 |  | 1995-1997 | 304 |
Mercedes-Benz | E Class | W210 | 1996-2002 | 401 |
Mercedes-Benz | E Class | 211 | 2003-2004 | 429 |
Mercedes-Benz | E Series |  | 1993-1995 | 354 |
Mercedes-Benz | G Class | 463 Chassis, LWB | 2005 | 549 |
Mercedes-Benz | G Class | 463 Chassis, LWB | 2009 | 583 |
Mercedes-Benz | G Class LWB | 463 Chassis | 2006-2007 | 527 |
Mercedes-Benz | G-Wagon | 463 | 1996 |  | 11
Mercedes-Benz | G-Wagon | 463 | 1997 |  | 15
Mercedes-Benz | G-Wagon | 463 | 1998 |  | 16
Mercedes-Benz | G-Wagon | 463 | 1999-2000 |  | 18
Mercedes-Benz | G-Wagon 300 GE LWB | 463.228 | 1993 |  | 3
Mercedes-Benz | G-Wagon 300 GE LWB | 463.228 | 1994 |  | 5
Mercedes-Benz | G-Wagon 320 LWB | 463 | 1995 |  | 6
Mercedes-Benz | G-Wagon 5 DR LWB | 463 | 2001 |  | 21
Mercedes-Benz | G-Wagon LWB | 463 5 DR | 2002 | 392 |
Mercedes-Benz | G-Wagon LWB V-8 | 463 | 1993-1996 |  | 13
Mercedes-Benz | G-Wagon SWB | 463 Cabriolet & 3DR | 2004 |  | 28
Mercedes-Benz | G-Wagon SWB | 463 | 2005 |  | 31
Mercedes-Benz | G-Wagon SWB | 463 | 1993-1996 |  | 14
Mercedes-Benz | G-Wagon SWB | 463 Cabriolet & 3DR | 2001-2003 |  | 25
Mercedes-Benz | G-Wagon SWB (manufactured before9/1/06) | 463 Cabriolet & 3DR | 2006 |  | 35
Mercedes-Benz | Maybach |  | 2004 | 486 |
Mercedes-Benz | S 280 | 140.028 | 1994 | 85 |
Mercedes-Benz | S 320 |  | 1994-1998 | 236 |
Mercedes-Benz | S 420 |  | 1994-1997 | 267 |
Mercedes-Benz | S 500 |  | 1994-1997 | 235 |
Mercedes-Benz | S 500 |  | 2000-2001 | 371 |
Mercedes-Benz | S 600 | Coupe | 1994 | 185 |
Mercedes-Benz | S 600 |  | 1995-1999 | 297 |
Mercedes-Benz | S 600 |  | 2000-2001 | 371 |
Mercedes-Benz | S 600L |  | 1994 | 214 |
Mercedes-Benz | S Class |  | 1993 | 395 |
Mercedes-Benz | S Class |  | 2012 | 565 |
Mercedes-Benz | S Class | 140 | 1993-1994 | 423 |
Mercedes-Benz | S Class |  | 1995-1998 | 342 |
Mercedes-Benz | S Class |  | 1998-1999 | 325 |
Mercedes-Benz | S Class | W220 | 1999-2002 | 387 |
Mercedes-Benz | S Class | 220 | 2002-2004 | 442 |
Mercedes-Benz | S Class |  | 2007-2010 | 566 |
Mercedes-Benz | S Class (manufactured prior to 9/1/2006) |  | 2005-2006 | 525 |
Mercedes-Benz | SE Class |  | 1993-1994 | 343 |
Mercedes-Benz | SEL Class | 140 | 1993-1994 | 343 |
Mercedes-Benz | SL (Manufactured before 9/1/06) |  | 2006 | 574 |
Mercedes-Benz | SL Class |  | 1993-1996 | 329 |
Mercedes-Benz | SL Class | W129 | 1997-2000 | 386 |
Mercedes-Benz | SL Class | R230 | 2001-2002 |  | 19
Mercedes-Benz | SL Class (European market) | 230 | 2003-2005 | 470 |
Mercedes-Benz | SLK |  | 1997-1998 | 257 |
Mercedes-Benz | SLK |  | 2000-2001 | 381 |
Mercedes-Benz | SLK Class |  | 2014 | 581 |
Mercedes-Benz | SLK Class (manufactured between 8/31/04 and 8/31/06) | 171 Chassis | 2005-2006 | 511 |
Mercedes-Benz | SLR (manufactured prior to 9/1/2006) |  | 2005-2006 | 558 |
Mercedes-Benz | Sprinter | Truck | 2001-2005 | 468 |
Mini | Cooper (European market) | Convertible | 2005 | 482 |
Mitsubishi | Outlander |  | 2011 | 564 |
Moto Guzzi (MC) | California |  | 2000-2001 | 495 |
Moto Guzzi (MC) | California EV |  | 2002 | 403 |
Moto Guzzi (MC) | Daytona |  | 1993 | 118 |
Moto Guzzi (MC) | Daytona RS |  | 1996-1999 | 264 |
MV Agusta (MC) | F4 |  | 2000 | 420 |
Nissan | GTS & GTR (RHD), a.k.a. “Skyline,” manufactured 1/96-6/98 | R33 | 1996-1998 |  | 32
Nissan | Pathfinder |  | 2002 | 412 |
Nissan | Pathfinder |  | 1993-1995 | 316 |
Plymouth | Voyager |  | 1996 | 353 |
Pontiac | Firebird Trans Am |  | 1995 | 481 |
Pontiac | Trans Sport | MPV | 1993 | 189 |
Porsche | 911 | 997 | 2009 | 542 |
Porsche | 911 |  | 1997-2000 | 346 |
Porsche | 911 (996) Carrera |  | 2002-2004 | 439 |
Porsche | 911 (996) GT3 |  | 2004 | 438 |
Porsche | 911 Carrera |  | 1993 | 165 |
Porsche | 911 Carrera |  | 1994 | 103 |
Porsche | 911 Carrera |  | 1995-1996 | 165 |
Porsche | 911 Carrera (manufactured prior to 9/1/06) | Cabriolet | 2005-2006 | 513 |
Porsche | 911 Carrera (manufactured prior to 9/1/06) |  | 2005-2006 | 531 |
Porsche | 911 Turbo |  | 2001 | 347 |
Porsche | 928 |  | 1993-1996 | 266 |
Porsche | 928 |  | 1993-1998 | 272 |
Porsche | 946 Turbo |  | 1994 | 116 |
Porsche | Boxster |  | 1997-2001 | 390 |
Porsche | Boxster (manufactured before 9/1/02) |  | 2002 | 390 |
Porsche | Carrera GT |  | 2004-2005 | 463 |
Porsche | Cayenne |  | 2003-2004 | 464 |
Porsche | Cayenne (manufactured prior to 9/1/06) |  | 2006 | 519 |
Porsche | Cayenne S |  | 2009 | 543 |
Porsche | GT2 |  | 2001 |  | 20
Porsche | GT2 |  | 2002 | 388 |
Porsche | GT3 RS |  | 2012 | 552 |
Rolls Royce | Bentley Brooklands |  | 1993 | 186 |
Rolls Royce | Bentley Continental R |  | 1993 | 258 |
Rolls Royce | Bentley Turbo R |  | 1993 | 291 |
Rolls Royce | Bentley Turbo R |  | 1995 | 243 |
Rolls Royce | Phantom |  | 2004 | 455 |
Saab | 9.3 |  | 2003 | 426 |
Saab | 900 SE |  | 1995 | 213 |
Saab | 900 SE |  | 1993-1994 | 219 |
Saab | 900 SE |  | 1996-1997 | 219 |
Saab | 9000 |  | 1994 | 334 |
Smart Car | Fortwo coupe & cabriolet (incl. trim levels passion, pulse, & pure) |  | 2005 |  | 30
Smart Car | Fortwo coupe & cabriolet (incl. trim levels passion, pulse, & pure) |  | 2002-2004 |  | 27
Smart Car | Fortwo coupe & cabriolet (incl. trim levels passion, pulse, & pure) manufactured before 9/1/06 |  | 2006 |  | 34
Smart Car | Fortwo coupe & cabriolet (incl. trim levels passion, pulse, & pure) manufactured before 9/1/06 |  | 2007 |  | 39
Subaru | Forester |  | 2006-2007 | 510 |
Suzuki (MC) | GSF 750 |  | 1996-1998 | 287 |
Suzuki (MC) | GSX1300R, a.k.a. “Hayabusa” |  | 1999-2006 | 484 |
Suzuki (MC) | GSX1300R, a.k.a. “Hayabusa” |  | 2007-2011 | 533 |
Suzuki (MC) | GSX-R 1100 |  | 1993-1997 | 227 |
Suzuki (MC) | GSX-R 750 |  | 1993-1998 | 275 |
Suzuki (MC) | GSX-R 750 |  | 1999-2003 | 417 |
Thule | 3008BL boat trailer |  | 2011 |  | 52
Toyota | 4-Runner |  | 1998 | 449 |
Toyota | Avalon |  | 1995-1998 | 308 |
Toyota | Land Cruiser |  | 1993-1996 | 218 |
Toyota | Land Cruiser (manufactured prior to9/1/2006) | IFS 100 series | 1999-2006 | 539 |
Toyota | Previa |  | 1993-1997 | 302 |
Toyota | RAV4 |  | 1996 | 328 |
Toyota | RAV4 |  | 2005 | 480 |
Triumph (MC) | Thunderbird |  | 1995-1999 | 311 |
Vespa (MC) | ET2, ET4 |  | 2001-2002 | 378 |
Vespa (MC) | LX and PX |  | 2004-2005 | 496 |
Volkswagen | Bora |  | 1999 | 540 |
Volkswagen | Eurovan |  | 1993-1994 | 306 |
Volkswagen | Golf |  | 2005 | 502 |
Volkswagen | Golf III |  | 1993 | 92 |
Volkswagen | Jetta |  | 1994-1996 | 274 |
Volkswagen | Passat | Wagon & Sedan | 2004 | 488 |
Volvo | 850 Turbo |  | 1995-1998 | 286 |
Volvo | 940 GL |  | 1993 | 95 |
Volvo | 945 GL | Wagon | 1994 | 132 |
Volvo | 960 | Sedan & Wagon | 1994 | 176 |
Volvo | C70 |  | 2000 | 434 |
Volvo | S70 |  | 1998-2000 | 335 |
Westfalia | 14ft Double Axle Cargo trailer |  | 1994-1997 |  | 56
Yamaha (MC) | Drag Star 1100 |  | 1999-2007 | 497 |
Yamaha (MC) | FJR 1300 |  | 2002 |  | 23
Yamaha (MC) | R1 |  | 2000 | 360 |
Yamaha (MC) | Virago |  | 1993-1998 | 301 |

Authority: 49 U.S.C. 30141(b); 49 CFR 593.9; delegations of authority at 49 CFR 1.95 and 501.8.

Jack Danielson,
Executive Director.

[FR Doc. 2017-22692 Filed 10-23-17; 8:45 am]

BILLING CODE 4910-59-P